ENVIRONMENTAL PROTECTION AGENCY

40 CFR Part 228

[EPA-R06-OW-2013-0221; FRL-9826-6]

Ocean Dumping; Atchafalaya-West Ocean Dredged Material Disposal Site Designation

AGENCY: Environmental Protection Agency (EPA).

ACTION: Proposed rule and draft Environmental Impact Statement (EIS); extension of public comment period.

SUMMARY: On May 21, 2013, EPA Region 6 proposed to designate the Atchafalaya-West Ocean Dredged Material Disposal Site pursuant to the draft EIS, “Designation of the Atchafalaya River Bar Channel Ocean Dredged Material Disposal Site Pursuant to Section 102(c) of the Marine Protection, Research and Sanctuaries Act of 1972, St. Mary Parish, Louisiana” (March 2013). We are hereby extending the public comment period for the proposed rule and the draft EIS.

DATES: Comments. The comment period for the proposed rule and draft EIS published May 21, 2013 (78 FR 29687), is extended. The end of the public comment period is now extended to August 8, 2013. Comments must be received or postmarked by that date.

ADDRESSES: Submit your comments, identified by Docket No. EPA-R06-OW-2013-0221, by one of the following methods:

• Federal e-Rulemaking Portal: http://www.regulations.gov; follow the online instruction for submitting comments.

• Email: Dr. Jessica Franks at franks.jessica@epa.gov

• Fax: Dr. Jessica Franks, Marine and Coastal Section (6WQ-EC) at fax number 214-665-6689.

• Mail: Dr. Jessica Franks, Marine and Coastal Section (6WQ-EC), Environmental Protection Agency, Mailcode: (6WQ-EC), 1445 Ross Avenue, Suite 1200, Dallas, Texas 75202-2733.

Instructions: Direct your comments to Docket No. EPA-R06-OW-2013-0221. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Marine and Coastal Section (6WQ-EC), Environmental Protection Agency, 1445 Ross Avenue, Suite 1200, Dallas, Texas 75202-2733. The file will be made available by appointment for public inspection in the Region 6 FOIA Review Room between the hours of 8:30 a.m. and 4:30 p.m. weekdays except for legal holidays. Contact the person listed above under comment submittals. If possible, please make the appointment at least two working days in advance of your visit. There will be a 15 cent per page fee for making photocopies of documents. On the day of the visit, please check in at the EPA Region 6 reception area at 1445 Ross Avenue, Suite 700, Dallas, Texas.

FOR FURTHER INFORMATION CONTACT: Jessica Franks, Ph.D., Marine and Coastal Section (6WQ-EC), Environmental Protection Agency, Region 6, 1445 Ross Avenue, Dallas, Texas 75202-2733, telephone (214) 665-8335, fax number (214) 665-6689; email address franks.jessica@epa.gov.

SUPPLEMENTARY INFORMATION: The proposed rule and draft EIS may both be obtained via the Internet at http://www.epa.gov/region6/water/ecopro/current_action.html or the Federal e-Rulemaking Portal: http://www.regulations.gov. To obtain hardcopies of these documents please contact Dr. Jessica Franks using the contact information provided above.

List of subjects in 40 CFR Part 228

Environmental protection, Water pollution control.

Dated: June 12, 2013.
Ron Curry,
Regional Administrator, Region 6.

[FR Doc. 2013-14758 Filed 6-21-13; 8:45 am]

BILLING CODE 6560-50-P